DEPARTMENT OF TRANSPORTATION

Maritime Administration

[Docket No. MARAD-2002-11700]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before April 30, 2002.

FOR FURTHER INFORMATION CONTACT: Kenneth Willis, 400 Seventh St., SW., Washington, DC 20590. Telephone: 202-366-2306 or FAX 202-493-2180.

Copies of this collection can also be obtained from that office.

SUPPLEMENTARY INFORMATION: Title of Collection: Application and Reporting Elements for Participation in the Maritime Security Program.

Type of Request: Extension of currently approved information collection.

OMB Control Number: 2133-0525.

Form Numbers: None.

Expiration Date of Approval: September 30, 2002.

Summary of Collection of Information: The Maritime Security Act of 1996 established the Maritime Security Program which supports the operations of U.S.-flag vessels in the foreign commerce of the United States through assistance payments. Participating vessel operators receive assistance payments and are required to make their ships and other commercial transportation resources available to the Government during times of national emergency. The vessel operators who are interested in participating in the Maritime Security Fleet are required to submit an application to MARAD for its review and approval.

Need and Use of the Information: The collected information is necessary for MARAD to determine if selected vessels are qualified to participate in the Maritime Security Program.

Description of Respondents: Operators of U.S.-flag vessels who are interested in participating in the Maritime Security Fleet.

Annual Responses: 132 respondents.

Annual Burden: 152 hours.

Comments: Comments should refer to the docket number that appears at the top of this document. Written comments may be submitted to the Docket Clerk, U.S. DOT Dockets, Room PL-401, 400 Seventh Street, SW, Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EST, Monday through Friday, except Federal Holidays. An electronic version of this document is available on the World Wide Web at http://dms.dot.gov.

Dated: February 26, 2002.
By Order of the Maritime Administrator.
Joel C. Richard,
Secretary, Maritime Administration.

[FR Doc. 02-4953 Filed 2-28-02; 8:45 am]

BILLING CODE 4910-81-P